DEPARTMENT OF THE INTERIOR

National Park Service

30-Day Notice of Submission of Study Package to the Office of Management and Budget; Opportunity for Public Comment

AGENCY: Department of the Interior, National Park Service.

ACTION: Notice and request for comments.

SUMMARY: Under provisions of the Paperwork Reduction Act of 1995 [44 U.S.C. 3507(a)(1)(D)] and 5 CFR Part 1320, Reporting and Record keeping Requirements, the National Park Service (NPS) invites public comments on a revision of a currently approved collection of information (OMB number 1024-0236).

DATES: Public comments on this Information Collection Request (ICR) will be accepted on or before July 25, 2007.

ADDRESSES: Youb may submit comments directly to the Desk Officer for the Department of the Interior (OMB number 1024-0236), Office of Information and Regulatory Affairs, OMB, by fax at 202/395-6566 or by electronic mail at oira_docket@omb.eop.gov. Please also send a copy of your comments to Dr. John G. Dennis, Natural Resources (MIB 3130), NPS, 1849 C Street, NW., Washington, DC 20240, or electronically at WASO_NRSS_researchcoll@nps.gov.

FOR FURTHER INFORMATION CONTACT: Dr. John G. Dennis, Natural Resources (MIB 3130), NPS, 1849 C Street, NW., Washington, DC 20240; or via phone at 202/513-7174; or via fax at 202/371-2131, or via e-mail at WASO_NRSS_researchcoll@nps.gov. You are entitled to a copy of the entire ICR package free of charge.

Comments Received on the 60-Day Federal Register Notice: The NPS published the 60-Day Federal Register Notice to solicit public comments on this ICR on March 8, 2007 (Vol. 72, pages 10553-10554). NPS also contacted by e-mail 3,588 non-Federal and Federal permittees and permit applicants who were active in calendar years 2006 and 2007, posted on the RPRS Web site notice of the availability of this review opportunity, and sent an internal memorandum to the NPS Natural Resource Advisory Group to solicit comments from the members of that group.

The NPS received 13 responses from the public in response to the 60-day Federal Register Notice and subsequent e-mail messages requesting comments. These responses provided a diversity of thoughts, including (1) The requested information and time needed to fill out the forms are reasonable; (2) the on-line application process is efficient and straightforward; (3) the forms and the ability to access on-line and report on-line make the application and compliance process very easy; (4) the park review and decision process is difficult and onerous; (5) too much documentation is required; (6) having each park make its own permit decision is unnecessarily piecemeal, arbitrary, and burdensome; and (7) it is difficult to figure out how to submit “things”. Five respondents specifically addressed the education application and permit, saying that it would have benefits or offering ideas about what types of education activities should receive specific types of consideration, such as simplifying the application process, how to treat specimen collections, allowing for different treatment for different types of activities, offering the ability to change the program leader without reissuing a permit, and offering a fee waiver for permitted education activities. Several respondents discussed matters outside this request for review, including urging NPS to change its collections ownership procedure and requesting the NPS to issue permits on a Servicewide, rather than park basis.

The NPS found that these comments did not indicate any clear reasons for changing any of the three forms, so the NPS will request to OMB that the three forms be renewed without change. The NPS plans to use the information contained in many of the comments when it develops new guidance material for the Science Education Permit Application, and revises existing guidance material for the Scientific Research and Collecting Permit Application.

Actual NPS and researcher use of the Internet-based system over the past three years has yielded few complaints and has earned a number of kudos. This use also has yielded suggestions from both respondents and government employees for making the information collection forms or software more efficient or more usable. These suggestions have been accumulated and some have been incorporated through ongoing software and technical support improvements. Such receipt of, and action on, user suggestions, constitutes ongoing consultation with people (applicants and permittees) from whom information is being collected and by whom collected information is being applied (NPS personnel and users of the Investigator's Annual Report site). Should OMB approve the collection of information forms submitted in this extension request, additional software changes will be made to incorporate fully the improvements contained in these forms.

SUPPLEMENTARY INFORMATION: Title: Research Permit and Reporting System Applications and Reports (36 CFR 2.1 and 2.5).

Bureau Form Number(s): 10-741a, 10-741b, and 10-226.

OMB Number: 1024-0236.

Expiration Date: June 30, 2007.

Type of Request: Revision of a currently approved collection of information.

Description of Need: The NPS regulates scientific research and collecting studies and science education activities inside park boundaries under regulations codified at 36 CFR Part 2, Section 2.5. The NPS issued these regulations pursuant to authority under the NPS Organic Act of 1916 as amended (16 U.S.C. 1 et seq.). The NPS administers these regulations to provide for scientific research and collecting and scientific education uses of parks while also protecting park resources and other park uses from adverse impacts that could occur if inappropriate scientific research and collecting studies or science education activities were to be conducted within park boundaries.

The currently approved information collection responds to the statutory requirement that NPS preserve park resources and regulate the use of units of the National Park System. The information currently collected includes: (1) Names and business contact information for people who seek a permit to conduct natural or social science research and collection activities in individual units of the National Park System, (2) what activities they wish to conduct, (3) where they wish to conduct the activities, (4) whether or not they wish to collect specimens as part of the activities they propose to conduct, and (5) for applicants who have received a permit, annual summaries of the actual results of their permitted activities. NPS uses the collected information for managing the use and preservation of park resources and for reporting the status of permitted research and collecting activities. NPS is requesting that OMB approve the current Application for a Scientific Research and Collecting Permit, Application for a Science Education Permit, and Investigator's Annual Report collection of information forms unchanged. The obligation to respond to this collection is required to manage the conduct of scientific research and collecting within national parks.

Comments are invited on: (1) The practical utility of the information being gathered; (2) the accuracy of the burden hour estimate; (3) ways to enhance the quality, utility and clarity of the information to be collected; and (4) ways to minimize the burden to respondents, including use of automated information collection techniques or other forms of information technology. All comments will become a matter of public record. Before including your address, phone number, e-mail address, or other personal identifying information in your comment, you should be aware that your entire comment—including your personal identifying information—may be made publicly available at any time. While you can ask us in your comment to withhold your personal identifying information from public review, we cannot guarantee that we will be able to do so.

Frequency of Response: On occasion.

Description of Respondents: Individual scientific investigators or science educators from other governmental agencies, universities and colleges, schools, research organizations, science education organizations who apply for a permit, and any members of this group who receive a permit; and as a result, must submit the required annual report of accomplishment.

Estimated average number of respondents: 6,500 per year.

Estimated average number of responses: 13,000 per year.

Estimated average time burden per respondent: 6000 responses for Form 10-741a: 1 hour; 500 responses for Form 10-741b: 1 hour, 6500 responses for Form 10-226: 37.5 minutes. Therefore, the total average time burden per respondent is 1.625 hours.

Frequency of response: 2 per respondent.

Estimated total annual reporting burden: 10,563 hours.

Dated: June 20, 2007.
Leonard E. Stowe,
NPS, Information Collection Clearance Officer.

[FR Doc. 07-3095 Filed 6-22-07; 8:45 am]

BILLING CODE 4310-EJ-M